DEPARTMENT OF COMMERCE

National Oceanic and Atmospheric Administration

[I.D. 072400D]

Mid-Atlantic Fishery Management Council; Public Meeting

AGENCY: National Marine Fisheries Service (NMFS), National Oceanic and Atmospheric Administration (NOAA), Commerce.

ACTION: Notice of public meeting.

SUMMARY: The Mid-Atlantic Fishery Management Council and its Demersal Species Committee, meeting as a Council Committee of the Whole, together with the Atlantic States Marine Fisheries Commission's (ASMFC) Summer Flounder, Scup, and Black Sea Bass Board; the Surfclam and Ocean Quahog Committee, meeting as a Council Committee of the Whole; the Atlantic Mackerel, Squid, and Butterfish Committee, meeting as a Council Committee of the Whole; the Coastal Migratory Committee, meeting as a Council Committee of the Whole, together with the ASMFC's Bluefish Board, and the Executive Committee will hold a public meeting.

DATES: The meetings will be held on Monday, August 14, 2000 to Thursday, August 17, 2000. See SUPPLEMENTARY INFORMATION for specific dates and times.

ADDRESSES: The meeting will be held at the Sheraton Society Hill, One Dock Street, Philadelphia, PA. telephone: 215-238-6000.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: On Monday, August 14, the Council will meet from 9:30 a.m. until 5:00 p.m. On Tuesday, August 15, the Council will meet from 8:00 a.m. until 5:30 p.m. On Wednesday, August 16, the Council will meet from 8:00 a.m. until 5:00 p.m. On Thursday, August 17, the Executive Committee will meet from 8:00-9:00 a.m. The Council will meet from 9:00 a.m. until 1:00 p.m.

Agenda items for this meeting are: The swearing in of new and reappointed Council members; election of Council officers; report of the Stock Assessment Review Committee (SARC); scup management measures for 2001 (review Scup Monitoring Committee's recommendations regarding 2001 harvest level and commercial management measures, recommend 2001 harvest level and commercial management measures, review and discuss scup framework action modifying gear restricted areas); summer flounder management measures for 2001 (review and comment on NMFS August 1 action regarding 2000 quota, review Summer Flounder Monitoring Committee's recommendations regarding 2001 harvest level and commercial management measures, recommend 2001 harvest level and commercial management measures); black sea bass management measures for 2001 (review Black Sea Bass Monitoring Committee's recommendation regarding 2001 harvest level and commercial management measures, recommend 2001 harvest level and commercial management measures); bluefish management measures for 2001 (review the Bluefish Monitoring Committee's recommendations regarding 2001 harvest level and management measures, recommend bluefish harvest level and management measures for 2001); surfclam and ocean quahog management measures for 2001 (review staff recommendations for 2001 quotas and management measures, develop and recommend 2001 quota specifications for surfclam and ocean quahogs); Atlantic mackerel, squid and butterfish management measures (review Monitoring Committee's recommendations for 2001 quotas and management measures, develop and recommend 2001 quota specifications and management measures for Atlantic mackerel, squids, and butterfish); possible consideration of provisions for quota set asides for research and data collection for all species but surfclams and ocean quahogs; hear organizational and committee reports.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Joanna Davis at the Council (see ADDRESSES) at least 5 days prior to the meeting date.

Dated: July 24, 2000.
Richard W. Surdi,
Acting Director, Office of Sustainable Fisheries, National Marine Fisheries Service.

[FR Doc. 00-19279 Filed 7-28-00; 8:45 am]

BILLING CODE 3510-22-F